DEPARTMENT OF AGRICULTURE

Forest Service

Oregon Coast Provincial Advisory Committee Meeting

AGENCY: Forest Service, USDA.

ACTION: Notice of meeting.

SUMMARY: The Oregon Coast Provincial Advisory Committee (PAC) will meet in Fireside Room 9, of the Hatfield Marine Sciences Center, on Marine Sciences Drive, Newport, Oregon, on October 25, 2001. The meeting will begin at 9 a.m. Agenda items will include: the Florence Riparian Restoration/Fish Enhancement Project; BLM Riparian/Fisheries Projects; Collaborative Forest Planning—The LSR267 Restoration Project Interim Program; 2001 Implementation Monitoring; County Payments Update; and Round Robin Information Sharing. A fifteen-minute public comment period is scheduled at 1 p.m. The committee welcomes the publics' written comments on committee business at any time. The meeting should end around 2:30 p.m. Interested citizens are encouraged to attend.

Lunch will be catered by Angell Job Corps. The menu includes salmon, vegetable lasagna, salad, bread, dessert, and coffee, tea, or juice. The cost is $7 per person. Please contact Dale Edwards, at 541/750-7010 or e-mail him at daedwards@fs.fed.us if you would like the lunch.

FOR FURTHER INFORMATION CONTACT: Joni Quarnstrom, Public Affairs Specialist, Siuslaw National Forest, 541/750-7075 or write to Forest Supervisor, Siuslaw National Forest, P.O. Box 1148, Corvallis, OR 97339.

Dated: October 1, 2001.
Gloria D. Brown,
Forest Supervisor.

[FR Doc. 01-25543 Filed 10-10-01; 8:45 am]

BILLING CODE 3410-11-M